DEPARTMENT OF THE INTERIOR

National Park Service

[NPS-WASO-NRNHL-DTS#-34685; PPWOCRADI0, PCU00RP14.R50000]

National Register of Historic Places; Notification of Pending Nominations and Related Actions

AGENCY: National Park Service, Interior.

ACTION: Notice.

SUMMARY: The National Park Service is soliciting electronic comments on the significance of properties nominated before October 1, 2022, for listing or related actions in the National Register of Historic Places.

DATES: Comments should be submitted electronically by October 27, 2022.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 1, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

KEY: State, County, Property Name, Multiple Name (if applicable), Address/Boundary, City, Vicinity, Reference Number.

Arizona

Maricopa County

Guadalupe Cemetery, 4649 South Beck Ave., Tempe, SG100008342

Nebraska

Thurston County

Hensley Spring (Hōcąk Nīšoc Haci Mā'į eja), Address Restricted, Winnebago vicinity, MP100008364

Highway 73 Spring (Hōcąk Nīšoc Haci Mā'į eja), Address Restricted, Winnebago vicinity, MP100008365

Sampson Spring (Hōcąk Nīšoc Haci Mā'į eja), Address Restricted, Winnebago vicinity, MP100008366

New York

Essex County

Graves Mansion, 27 Church Ln., Au Sable Forks, SG100008338

Franklin County

Corey Cottage (Saranac Lake MPS), 19 Helen St., Saranac Lake, MP100008337

Lewis County

Martinsburg Common School District #4, 6503 Ramos Rd., Martinsburg, SG100008340

Monroe County

Sperbeck, Martin & Andrew, House, 200 South Main St., Fairport, SG100008336

New York County

Lithuanian Alliance of America, 307 West 30th St., Manhattan, SG100008334

West Harlem Historic District, West 135th to West 153rd Sts. between Amsterdam Ave. and Riverside Dr., Manhattan, SG100008341

Niagara County

Buildings on Niagara Street at Fourth Street, 308-328 Niagara St., Niagara Falls, SG100008345

Ontario County

Naples South Main Street Historic District, Portions of James, South Main, Reed, Sprague, and Weld Sts., Naples, SG100008347

Seneca County

Huntington Building, The, 201 Fall St., Seneca Falls, SG100008335

South Dakota

Brookings County

Archaeological Site 39BK0003 (Burial Mounds in South Dakota 50 B.C. to A.D. c.1875 MPS), Address Restricted, Bruce vicinity, MP100008354

Archaeological Site 39BK0102 (Burial Mounds in South Dakota 50 B.C. to A.D. c.1875 MPS), Address Restricted, Bruce vicinity, MP100008355

Lawrence County

Patterson Homestead, 12445 Misty Meadows Rd., Nemo vicinity, SG100008361

Marshall County

Archaeological Site 39ML0012 (Burial Mounds in South Dakota 50 B.C. to A.D. c.1875 MPS), Address Restricted, Britton vicinity, MP100008356

Archaeological Site 39ML0002 (Burial Mounds in South Dakota 50 B.C. to A.D. c.1875 MPS), Address Restricted, Lake City vicinity, MP100008357

Archaeological Site 39ML0032 (Burial Mounds in South Dakota 50 B.C. to A.D. c.1875 MPS), Address Restricted, Lake City vicinity, MP100008358

Minnehaha County

Archaeological Site 39MH0005 (Burial Mounds in South Dakota 50 B.C. to A.D. c.1875 MPS), Address Restricted, Sioux Falls vicinity, MP100008359

Pennington County

Reynolds, Joseph, Ranch Yard and Stage Stop, 22875 South Rochford Rd., Rochford vicinity, SG100008362

Roberts County

Archaeological Site 39RO0073 (Burial Mounds in South Dakota 50 B.C. to A.D. c.1875 MPS), Address Restricted, Sisseton vicinity, MP100008360

Wisconsin

Dane County

Madison Saddlery Company, 313-317 East Wilson St., Madison, SG100008333

Waukesha County

St. Mary's Catholic Church Complex, 225 South Hartwell Ave. and 520 East Newhall Ave., Waukesha, SG100008332

A request for removal has been made for the following resources:

Tennessee

Blount County

Gillespie, James, House (Blount County MPS), Lowes Ferry Rd., 1 mi. N of Louisville, Louisville vicinity, OT89000880

Grundy County

Scott Creek Stone Arch Bridge (Grundy County MRA),

Over Scott Creek at Flat Branch Rd., Coalmont vicinity, OT87000539

Meigs County

Buchanan House (Meigs County, Tennessee MRA), Vernon St., Decatur, OT82003996

Additional documentation has been received for the following resources:

New York

Albany County

Slingerlands Historic District (Additional Documentation), New Slingerlands & Mullens Rds., Bridge St., Slingerlands, AD12000007

Nominations submitted by Federal Preservation Officers:

The State Historic Preservation Officer reviewed the following nominations and responded to the Federal Preservation Officer within 45 days of receipt of the nominations and supports listing the properties in the National Register of Historic Places.

California

Monterey County

Pinnacles National Park Roads, 5000 East Entrance Rd., Pinnacles National Park (PINN), Paicines vicinity, SG100008339

North Carolina

Haywood County

Cataloochee Historic District (Great Smoky Mountains National Park MPS), Cataloochee Rd., Great Smoky Mountains National Park (GRSM), Cataloochee, MP100008348

Authority: Section 60.13 of 36 CFR part 60.

Dated: October 5, 2022.
Sherry A. Frear,
Chief, National Register of Historic Places/National Historic Landmarks Program.

[FR Doc. 2022-22138 Filed 10-11-22; 8:45 am]

BILLING CODE 4312-52-P